FEDERAL RETIREMENT THRIFT INVESTMENT BOARD

Sunshine Act; Notice of Meeting

TIME AND DATE: 9:30 a.m. (Eastern Time), May 16, 2011.

PLACE: 4th Floor Conference Room, 1250 H Street, NW., Washington, DC 20005.

STATUS: Parts will be open to the public and parts closed to the public.

Matters To Be Considered

Parts Open to the Public

1. Approval of the minutes of the April 18, 2011 Board member meeting.

2. Thrift Savings Plan activity report by the Executive Director.

a. Monthly Participant Activity Report.

b. Monthly Investment Performance Report.

c. Legislative Report.

3. Report from BlackRock Senior Management.

4. Mid-Year Budget Review.

Parts Closed to the Public

5. Personnel.

CONTACT PERSON FOR MORE INFORMATION: Thomas J. Trabucco, Director, Office of External Affairs, (202) 942-1640.

Dated: May 6, 2011.
Laurissa Stokes,
Acting Secretary, Federal Retirement Thrift Investment Board.

[FR Doc. 2011-11541 Filed 5-6-11; 4:15 pm]

BILLING CODE 6760-01-P